DEPARTMENT OF THE INTERIOR

Bureau of Land Management

[WY-957-07-1910-BJ-5GKV]

Notice of Filing of Plats of Survey, Nebraska

AGENCY: Bureau of Land Management, Interior.

SUMMARY: The Bureau of Land Management (BLM) is scheduled to file the plat of survey of the lands described below thirty (30) calendar days from the date of this publication in the BLM Wyoming State Office, Cheyenne, Wyoming.

FOR FURTHER INFORMATION CONTACT: Bureau of Land Management, 5353 Yellowstone Road, P.O. Box 1828, Cheyenne, Wyoming 82003.

SUPPLEMENTARY INFORMATION: This survey was executed at the request of the Bureau of Indian Affairs and is necessary for the management of these lands. The lands surveyed are:

The plat and field notes representing the dependent resurvey of portions of the subdivisional lines, the subdivision of section lines, and the 1928-29 adjusted meander lines of the dry bed of old lake (locally known as Lawless Lake), and the survey of the subdivision of section 30, of Township 25 North, Range 10 East, of the Sixth Principal Meridian, Nebraska.

Copies of the preceding described plat and field notes are available to the public at a cost of $1.10 per page.

Dated: May 2, 2007.
John P. Lee,
Chief Cadastral Surveyor, Division of Support Services.

[FR Doc. E7-8779 Filed 5-7-07; 8:45 am]

BILLING CODE 4467-22-P